DEPARTMENT OF TRANSPORTATION

National Highway Traffic Safety Administration

[Docket No. NHTSA-2001-9318]

RIN 2127-AG19

Federal Motor Vehicle Safety Standards; Lamps, Reflective Devices, and Associated Equipment; Review: Effectiveness of Retroreflective Tape; Evaluation Report

AGENCY: National Highway Traffic Safety Administration (NHTSA), Department of Transportation.

ACTION: Request for comments on technical report.

SUMMARY: This notice announces NHTSA's publication of a Technical Report reviewing and evaluating its existing Safety Standard 108, Lamps, Reflective Devices, and Associated Equipment. The report's title is The Effectiveness of Retroreflective Tape on Heavy Trailers.

DATES: Comments must be received no later than September 4, 2001.

ADDRESSES: Report: You may obtain a copy of the report free of charge by sending a self-addressed mailing label to Publications Ordering and Distribution Services (NAD-51), National Highway Traffic Safety Administration, 400 Seventh Street, SW., Washington, DC 20590. A summary of the report is available on the Internet for viewing on line at www.nhtsa.dot.gov/cars/rules/regrev/evaluate/809222.html. The full report is available on the Internet in PDF format at www.nhtsa.dot.gov/cars/rules/regrev/evaluate/pdf/809222.pdf.

Comments: All comments should refer to the Docket number of this notice (NHTSA-2001-9318). You may submit your comments in writing to: U. S. Department of Transportation Docket Management, Room PL-401, 400 Seventh Street, SW., Washington, DC 20590. You may also submit your comments electronically by logging onto the Dockets Management System website at http://dms.dot.gov. Click on “Help & Information” or “Help/Info” to obtain instructions for filing the document electronically.

You may call Docket Management at 202-366-9324 and visit the Docket from 10:00 a.m. to 5:00 p.m., Monday through Friday.

FOR FURTHER INFORMATION CONTACT: Charles J. Kahane, Chief, Evaluation Division, NPP-22, Plans and Policy, National Highway Traffic Safety Administration, Room 5208, 400 Seventh Street, SW, Washington, DC 20590. Telephone: 202-366-2560. FAX: 202-366-2559. E-mail: ckahane@nhtsa.dot.gov.

For information about NHTSA's evaluations of the effectiveness of existing regulations and programs: Visit the NHTSA web site at http://www.nhtsa.dot.gov and click “Regulations & Standards” underneath “Car Safety” on the home page; then click “Regulatory Evaluation” on the “Regulations & Standards” page.

SUPPLEMENTARY INFORMATION: The technical report evaluates the effectiveness of retroreflective tape in enhancing the visibility of heavy trailers and reducing side and rear impacts by other vehicles into these trailers during dark conditions. It is based on a statistical analysis of 10,959 crash cases investigated by the Florida Highway Patrol and the Pennsylvania State Police in 1997-1999.

The tape is quite effective. It reduced side and rear impacts into trailers, in dark conditions (including “dark-not-lighted,” “dark-lighted,” “dawn,” and “dusk”) by 29 percent. In “dark-not-lighted” conditions, the tape reduced side and rear impact crashes by 41 percent. Tape is especially effective in reducing injury crashes. In dark conditions, it reduced side and rear impacts that resulted in fatalities or injuries to drivers of any vehicle by 44 percent.

How Can I Influence NHTSA's Thinking on This Evaluation?

NHTSA welcomes public review of the technical report and invites reviewers to submit comments about the data and the statistical methods used in the analyses. NHTSA will submit to the Docket a response to the comments and, if appropriate, additional analyses that supplement or revise the technical report.

How Do I Prepare and Submit Comments?

Your comments must be written and in English. To ensure that your comments are correctly filed in the Docket, please include the Docket number of this document (NHTSA-2001-9318) in your comments.

Your primary comments must not be more than 15 pages long (49 CFR 553.21). However, you may attach additional documents to your primary comments. There is no limit on the length of the attachments.

Please send two paper copies of your comments to Docket Management or submit them electronically. The mailing address is U.S. Department of Transportation Docket Management, Room PL-401, 400 Seventh Street, SW., Washington, DC 20590. If you submit your comments electronically, log onto the Dockets Management System website at http://dms.dot.gov and click on “Help & Information” or “Help/Info” to obtain instructions.

We also request, but do not require you to send a copy to Christina Morgan, Evaluation Division, NPP-22, National Highway Traffic Safety Administration, Room 5208, 400 Seventh Street, SW., Washington, DC 20590 (alternatively, FAX to 202-366-2559 or e-mail to tmorgan@nhtsa.dot.gov). She can check if your comments have been received at the Docket and she can expedite their review by NHTSA.

How Can I Be Sure That My Comments Were Received?

If you wish Docket Management to notify you upon its receipt of your comments, enclose a self-addressed, stamped postcard in the envelope containing your comments. Upon receiving your comments, Docket Management will return the postcard by mail.

How Do I Submit Confidential Business Information?

If you wish to submit any information under a claim of confidentiality, send three copies of your complete submission, including the information you claim to be confidential business information, to the Chief Counsel, NCC-01, National Highway Traffic Safety Administration, Room 5219, 400 Seventh Street, SW., Washington, DC 20590. Include a cover letter supplying the information specified in our confidential business information regulation (49 CFR part 512).

In addition, send two copies from which you have deleted the claimed confidential business information to Docket Management, Room PL-401, 400 Seventh Street, SW, Washington, DC 20590, or submit them electronically.

Will the Agency Consider Late Comments?

In our response, we will consider all comments that Docket Management receives before the close of business on the comment closing date indicated above under DATES. To the extent possible, we will also consider comments that Docket Management receives after that date.

Please note that even after the comment closing date, we will continue to file relevant information in the Docket as it becomes available. Further, some people may submit late comments. Accordingly, we recommend that you periodically check the Docket for new material.

How Can I Read the Comments Submitted by Other People?

You may read the comments by visiting Docket Management in person at Room PL-401, 400 Seventh Street, SW., Washington, DC from 10:00 a.m. to 5:00 p.m., Monday through Friday.

You may also see the comments on the Internet by taking the following steps:

a. Go to the Docket Management System (DMS) Web page of the Department of Transportation (http://dms.dot.gov).

b. On that page, click on “search.”

c. On the next page ((http://dms.dot.gov/search/) type in the four-digit Docket number shown at the beginning of this Notice (6545). Click on “search.”

d. On the next page, which contains Docket summary information for the Docket you selected, click on the desired comments. You may also download the comments.

AUTHORITY: 49 U.S.C. 30111, 30168; delegation of authority at 49 CFR 1.50 and 501.8.

William H. Walsh,
Associate Administrator for Plans and Policy.

[FR Doc. 01-11163 Filed 5-3-01; 8:45 am]

BILLING CODE 4910-59-P